DEPARTMENT OF ENERGY

Federal Energy Regulatory Commission

Combined Notice of Filings #1

Take notice that the Commission received the following electric corporate filings:

Docket Numbers: EC17-123-001.

Applicants: American Transmission Company LLC; Wisconsin Power and Light Company.

Description: Notification of Material Change to Transaction of American Transmission Company LLC, et al.

Filed Date: 8/22/17.

Accession Number: 20170822-5165.

Comments Due: 5 p.m. ET 9/12/17.

Docket Numbers: EC17-164-000.

Applicants: Goshen Phase II LLC, Rockland Wind Farm LLC, Wolverine Creek Goshen Interconnection LLC.

Description: Application for Authorization for Disposition of Jurisdictional Facilities, Request for Confidential Treatment, and Request for Expedited Consideration of Goshen Phase II LLC, et. al.

Filed Date: 8/24/17.

Accession Number: 20170824-5128.

Comments Due: 5 p.m. ET 9/14/17.

Take notice that the Commission received the following electric rate filings:

Docket Numbers: ER10-3145-009; ER10-1728-009; ER10-1800-010; ER10-3116-009; ER10-3120-009; ER10-3128-009; ER10-3136-009; ER11-2036-009; ER11-2701-011; ER13-1544-006; ER15-1579-007; ER15-1582-008; ER15-1914-009; ER15-2679-005; ER15-2680-005; ER15-760-008; ER15-762-009; ER16-468-003; ER16-474-004; ER16-890-004; ER16-930-003; ER16-1255-003; ER16-1738-003; ER16-1901-003; ER16-1955-003; ER16-1956-003; ER16-1973-003; ER16-2201-002; ER16-2224-002; ER16-2541-002; ER16-2578-003; ER17-306-002; ER17-544-002.

Applicants: AES Alamitos, LLC, AES Energy Storage, LLC, AES Laurel Mountain, LLC, AES Ohio Generation, LLC, AES Redondo Beach, L.L.C., Indianapolis Power & Light Company, 65HK 8me LLC, The Dayton Power and Light Company, AES ES Tait, LLC, AES Huntington Beach LLC, Mountain View Power Partners, LLC, Mountain View Power Partners IV, LLC, 67RK 8me LLC, 87RL 8me LLC, Antelope Big Sky Ranch LLC, Antelope DSR 1, LLC, Antelope DSR 2, LLC, Beacon Solar 1, LLC, Beacon Solar 3, LLC, Beacon Solar 4, LLC, Elevation Solar C LLC, Central Antelope Dry Ranch C LLC, FTS Master Tenant 1, LLC, Latigo Wind Park, LLC, North Lancaster Ranch LLC, Pioneer Wind Park I LLC, Sierra Solar Greenworks LLC, Sandstone Solar LLC, Solverde 1, LLC, Western Antelope Blue Sky Ranch B LLC, Western Antelope Blue Sky Ranch A LLC, Summer Solar LLC, Western Antelope Dry Ranch LLC.

Description: Notice of Non-Material Change in Status of AES MBR Affiliates.

Filed Date: 8/24/17.

Accession Number: 20170824-5144.

Comments Due: 5 p.m. ET 9/14/17.

Docket Numbers: ER17-544-001.

Applicants: Beacon Solar 1, LLC.

Description: Compliance filing: Beacon Solar 1, LLC Tariff Compliance Filing to be effective 8/26/2017.

Filed Date: 8/25/17.

Accession Number: 20170825-5056.

Comments Due: 5 p.m. ET 9/15/17.

Take notice that the Commission received the following electric reliability filings:

Docket Numbers: RR17-7-000.

Applicants: North American Electric Reliability Corporation.

Description: Request of North American Electric Reliability Corporation for Acceptance of 2018 Business Plans and Budgets of NERC and the Regional Entities and for Approval of Assessments to Fund Budgets.

Filed Date: 8/23/17.

Accession Number: 20170823-5109.

Comments Due: 5 p.m. ET 9/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2017.
Nathaniel J. Davis, Sr.,
Deputy Secretary.

[FR Doc. 2017-18465 Filed 8-30-17; 8:45 am]

BILLING CODE 6717-01-P